BUREAU OF CONSUMER FINANCIAL PROTECTION

12 CFR Ch. X

Semiannual Regulatory Agenda

AGENCY: Bureau of Consumer Financial Protection.

ACTION: Semiannual regulatory agenda.

SUMMARY: The Bureau of Consumer Financial Protection (CFPB) is publishing this agenda as part of the Fall 2013 Unified Agenda of Federal Regulatory and Deregulatory Actions. The CFPB reasonably anticipates having the regulatory matters identified below under consideration during the period from November 1, 2013 to October 31, 2014. The next agenda will be published in the spring of 2014 and will update this agenda through the spring of 2014. Publication of this agenda is in accordance with the Regulatory Flexibility Act (5 U.S.C. 601 et seq.).

DATES: This information is current as of September 6, 2013.

ADDRESSES: Bureau of Consumer Financial Protection, 1700 G Street NW., Washington, DC 20552.

FOR FURTHER INFORMATION CONTACT: A staff contact is included for each regulatory item listed herein.

SUPPLEMENTARY INFORMATION: The CFPB is publishing its fall 2013 agenda as part of the Fall 2013 Unified Agenda of Federal Regulatory and Deregulatory Actions, which is coordinated by the Office of Management and Budget under Executive Order 12866. The CFPB's participation in the Unified Agenda is voluntary. The complete Unified Agenda will be available to the public at the following Web site: http://www.reginfo.gov.

Pursuant to the Dodd-Frank Wall Street Reform and Consumer Protection Act, Public Law 111-203, 124 Stat. 1376 (Dodd-Frank Act), the CFPB has rulemaking, supervisory, enforcement, and other authorities relating to consumer financial products and services. These authorities include the ability to issue regulations under more than a dozen Federal consumer financial laws, which transferred to the CFPB from seven Federal agencies on July 21, 2011. The CFPB also is working on a wide range of initiatives to address issues in markets for consumer financial products and services that are not reflected in this notice because the Unified Agenda is limited to rulemaking activities.

The CFPB reasonably anticipates having the regulatory matters identified below under consideration during the period from November 1, 2013 to October 31, 2014.¹ Among the Bureau's more significant regulatory efforts are the following.

¹ The listing does not include certain routine, frequent, or administrative matters. Further, certain of the information fields for the listing are not applicable to independent regulatory agencies, including the CFPB, and, accordingly, the CFPB has indicated responses of “no” for such fields.

Implementing Dodd-Frank Act Mortgage Protections

First, the CFPB is continuing its regulatory efforts to implement critical consumer protections under the Dodd-Frank Act. For instance, the Bureau expects to issue, in the near future, a final rule combining several disclosures that consumers receive in connection with applying for and closing on a mortgage loan under the Truth in Lending Act and the Real Estate Settlement Procedures Act, increasing consumer understanding of mortgage transactions and facilitating industry compliance.

The Bureau is also continuing rulemaking activities to assist in the full implementation of, and facilitate compliance with, various mortgage-related final rules issued by the Bureau in January 2013 strengthening consumer protections involving the origination and servicing of mortgages. Most of these rules, implementing requirements under the Dodd-Frank Act, will take effect in January 2014. Over the last several months, the Bureau has issued several clarifications and revisions to address interpretive issues and facilitate compliance with the new requirements. After the effective date, the Bureau is planning to engage in a further rulemaking to consider certain additional refinements to these rules.

The Bureau is also participating in a series of interagency rulemakings under the Dodd-Frank Act relating to mortgage appraisals.

In addition, the Bureau has begun work in preparation to implement Dodd-Frank Act amendments to the Home Mortgage Disclosure Act (HMDA) that require supplementation of existing data reporting requirements regarding housing-related loans and applications for such loans.

Bureau Regulatory Efforts in Other Consumer Markets

Second, the CFPB is working on and considering a number of rulemakings to address important consumer protection issues in other markets for consumer financial products and services. For instance, the Bureau is planning to issue an Advance Notice of Proposed Rulemaking on debt collection, and has been engaged in extensive research and analysis concerning payday loans, deposit advance products, and bank overdraft programs, building on Bureau white papers issued in April and June 2013.

The Bureau is also continuing work on a number of earlier initiatives concerning consumer payment services. For instance, following on an earlier Advance Notice of Proposed Rulemaking concerning general purpose reloadable prepaid cards, the Bureau expects to issue a Notice of Proposed Rulemaking concerning prepaid cards in mid-2014. The Bureau also expects early next year to begin work on an additional rulemaking to consider whether to extend the sunset of a provision of the Dodd-Frank Act allowing depository institutions to estimate certain items on disclosures concerning consumer remittance transfers to foreign countries.

Third, the Bureau is continuing rulemaking activities that will further establish the Bureau's nonbank supervisory authority by defining larger participants of certain markets for consumer financial products and services. Larger participants of such markets, as the Bureau defines by rule, are subject to the Bureau's supervisory authority.

Bureau Regulatory Streamlining Efforts

Fourth, the Bureau is continuing work to consider opportunities to modernize and streamline regulations that it inherited from other agencies pursuant to a transfer of rulemaking authority under the Dodd-Frank Act. This work includes completing the consolidation and streamlining of Federal mortgage disclosure forms discussed earlier, and exploring opportunities to reduce unwarranted regulatory burden as part of the HMDA rulemaking. The Bureau is also expecting to issue a Notice of Proposed Rulemaking in 2014 to explore whether to modify certain requirements under the Gramm-Leach-Bliley Act to provide annual notices regarding financial institutions' data sharing practices.

Finally, the Bureau is continuing to assess timelines for other rulemakings mandated by the Dodd-Frank Act or inherited from other agencies and to conduct outreach and research to assess issues in various other markets for consumer financial products and services. As this work continues, the Bureau will evaluate possible policy responses, including possible rulemaking actions, taking into account the critical need for and effectiveness of various policy tools. The Bureau will update its regulatory agenda in spring 2014 to reflect the results of this further prioritization and planning.

Dated: September 6, 2013.
Meredith Fuchs,
General Counsel, Bureau of Consumer Financial Protection.

Consumer Financial Protection Bureau—Prerule Stage
Sequence No. | Title | Regulation Identifier No.
438 | Home Mortgage Disclosure Act (Regulation C) | 3170-AA10

Consumer Financial Protection Bureau—Final Rule Stage
Sequence No. | Title | Regulation Identifier No.
439 | Integrated Mortgage Disclosures Under the Real Estate Settlement Procedures Act (Regulation X) and the Truth in Lending Act (Regulation Z) | 3170-AA19
440 | The Expedited Funds Availability Act (Regulation CC) | 3170-AA31

Consumer Financial Protection Bureau—Long-Term Actions
Sequence No. | Title | Regulation Identifier No.
441 | Business Lending Data (Regulation B) | 3170-AA09

CONSUMER FINANCIAL PROTECTION BUREAU (CFPB)

Prerule Stage

438. Home Mortgage Disclosure Act (Regulation C)

Legal Authority: 12 U.S.C. 2801 to 2810

Abstract: Section 1094 of the Dodd-Frank Wall Street Reform and Consumer Protection Act (Dodd-Frank Act) amends the Home Mortgage Disclosure Act (HMDA), which requires certain financial institutions to collect and report information in connection with housing-related loans and applications they receive for such loans. The amendments made by the Dodd-Frank Act expand the scope of information relating to mortgage applications and loans that must be compiled, maintained, and reported under HMDA, including the ages of loan applicants and mortgagors, information relating to the points and fees payable at origination, the difference between the annual percentage rate associated with the loan and benchmark rates for all loans, the term of any prepayment penalty, the value of real property to be pledged as collateral, the term of the loan and of any introductory interest rate for the loan, the presence of contract terms allowing non-amortizing payments, the origination channel, and the credit scores of applicants and mortgagors. The Dodd-Frank Act also provides authority for the CFPB to require other information, including identifiers for loans, parcels, and loan originators. The CFPB expects to begin developing proposed regulations concerning the data to be collected and appropriate format, procedures, information safeguards, and privacy protections for information compiled and reported under HMDA. The CFPB may consider additional revisions to its regulations to accomplish the purposes of HMDA.

Timetable:

Action | Date | FR Cite
Prerule Activities | 02/00/14

Regulatory Flexibility Analysis Required: Yes.

Agency Contact: Joan Kayagil, Office of Regulations, Consumer Financial Protection Bureau,Phone: 202 435-7700.

RIN: 3170-AA10

CONSUMER FINANCIAL PROTECTION BUREAU (CFPB)

Final Rule Stage

439. Integrated Mortgage Disclosures Under the Real Estate Settlement Procedures Act (Regulation X) and the Truth in Lending Act (Regulation Z)

Legal Authority: 12 U.S.C. 2617; 12 U.S.C. 3806; 15 U.S.C. 1604; 15 U.S.C. 1637(c)(5); 15 U.S.C. 1639(l); 12 U.S.C. 5532

Abstract: Sections 1032(f), 1098, and 1100A of the Dodd-Frank Wall Street Reform and Consumer Protection Act (Dodd-Frank Act) direct the CFPB to issue proposed rules and forms that combine certain disclosures that consumers receive in connection with a mortgage loan under the Truth in Lending Act and the Real Estate Settlement Procedures Act. Consistent with this requirement, the CFPB has proposed to amend Regulation X (Real Estate Settlement Procedures Act) and Regulation Z (Truth in Lending) to establish new disclosure requirements and forms in Regulation Z for most closed-end consumer credit transactions secured by real property. In addition to combining the existing disclosure requirements and implementing new requirements in the Dodd-Frank Act, the CFPB's proposed rule provides extensive guidance regarding compliance with those requirements. The proposal had two comment periods. Comments on the proposed revisions to the definition of the finance charge and the proposed compliance date for the new Dodd-Frank Act disclosures were due September 7, 2012. Comments on all other aspects of the proposal were due November 6, 2012. On September 6, 2012, the CFPB issued a notice extending the comment period to November 6, 2012, for the proposed revisions to the definition of the finance charge. The CFPB is working to issue a final rule. The CFPB issued the final rule to implement the compliance dates for the new Dodd-Frank Act disclosures that were proposed in this proposal in a separate rulemaking (see RIN 3170-AA32).

Timetable:

Action | Date | FR Cite
NPRM | 08/23/12 | 77 FR 51116
NPRM Comment Period Extended | 09/06/12 | 77 FR 54843
NPRM Comment Period End | 11/06/12
Final Rule | 11/00/13

Regulatory Flexibility Analysis Required: Yes.

Agency Contact: Richard Horn, Office of Regulations, Consumer Financial Protection Bureau,Phone: 202 435-7700.

RIN: 3170-AA19

440. The Expedited Funds Availability Act (Regulation CC)

Legal Authority: 12 U.S.C. 4001 et seq.

Abstract: The Expedited Funds Availability Act (EFA Act), implemented by Regulation CC, governs availability of funds after a check deposit and check collection and return processes. Section 1086 of the Dodd-Frank Wall Street Reform and Consumer Protection Act amended the EFA Act to provide the CFPB with joint rulemaking authority with the Board of Governors of the Federal Reserve System (Board) over certain consumer-related EFA Act provisions. The Board proposed amendments to Regulation CC in March 2011, to facilitate the banking industry's ongoing transition to fully-electronic interbank check collection and return. The Board's proposal includes some provisions that are subject to the CFPB's joint rulemaking authority, including the period for funds availability and revising model form disclosures. The CFPB will work with the Board to issue jointly a final rule that includes provisions within the CFPB's authority.

Timetable:

Action | Date | FR Cite
NPRM | 03/25/11 | 76 FR 16862
NPRM Comment Period End | 06/03/11
Final Rule | 06/00/14

Regulatory Flexibility Analysis Required: Yes.

Agency Contact: Stephen Shin, Office of Regulations, Consumer Financial Protection Bureau,Phone: 202 435-7700.

RIN: 3170-AA31

CONSUMER FINANCIAL PROTECTION BUREAU (CFPB)

Long-Term Actions

441. Business Lending Data(Regulation B)

Legal Authority: 15 U.S.C. 1691c-2

Abstract: Section 1071 of the Dodd-Frank Wall Street Reform and Consumer Protection Act (Dodd-Frank Act) amends the Equal Credit Opportunity Act (ECOA) to require financial institutions to report information concerning credit applications made by women- or minority-owned businesses and small businesses. The amendments made by the Dodd-Frank Act require that certain data be collected and maintained under ECOA, including the number of the application and date the application was received; the type and purpose of loan or credit applied for; the amount of credit applied for and approved; the type of action taken with regard to each application and the date of such action; the census tract of the principal place of business; the gross annual revenue; and the race, sex, and ethnicity of the principal owners of the business. The CFPB expects to begin developing proposed regulations concerning the data to be collected and appropriate procedures, information safeguards, and privacy protections for information-gathering under this section.

Timetable:

Action | Date | FR Cite
CFPB Expects Further Action | To Be Determined

Regulatory Flexibility Analysis Required: Yes.

Agency Contact: Charles Honig, Office of Regulations, Consumer Financial Protection Bureau,Phone: 202 435-7700.

RIN: 3170-AA09

[FR Doc. 2013-29701 Filed 1-6-14; 8:45 am]

BILLING CODE 4810-AM-P